DEPARTMENT OF TRANSPORTATION

Federal Aviation Administration

[Docket No. FAA-2025-2927]

Notice of Rescission of Unmanned Aircraft Systems Operations Over People Declaration of Compliance, Tracking No. OOP000000178 for DJI Mavic 3 Multispectral (M3M) With AVSS Parachute Recovery System (PRS-M3E)

AGENCY: Federal Aviation Administration (FAA), DOT.

ACTION: Notice.

SUMMARY: This notice rescinds an operations over people (OOP) declaration of compliance (DOC) for the DJI Mavic 3 Multispectral (M3M) with AVSS Parachute Recovery System (PRS-M3E) unmanned aircraft with the assigned tracking number OOP000000178 that the FAA accepted on August 29, 2024, effective immediately.

DATES: This action is effective October 18, 2025.

FOR FURTHER INFORMATION CONTACT: Benjamin Walsh, Aerospace Engineer, Flight Standards Emerging Technologies Division, AFS-700 by email at: ben.walsh@faa.gov; phone: 703-230-7664 x3275.

SUPPLEMENTARY INFORMATION:

Background: Title 14, Code of Federal Regulations (14 CFR) part 107, subpart D, establishes requirements for unmanned aircraft operations over people in the airspace of the United States. A person that designs, produces, or modifies an unmanned aircraft for category 2 or category 3 operations over people must show that the unmanned aircraft complies with the requirements in § 107.120 or § 107.130 by following a FAA-accepted means of compliance (MOC). A person declares that an unmanned aircraft has been designed and produced to meet the applicable requirements of § 107.120 or § 107.130 by submitting a declaration of compliance (DOC) in accordance with the requirements in § 107.160 using the FAA's UAS Declaration of Compliance website (uasdoc.faa.gov).

On August 29, 2024, the FAA evaluated and accepted a DOC application submitted by Aerial Vehicle Safety Solutions (AVSS) for the DJI Mavic 3 Multispectral (M3M) with AVSS Parachute Recovery System (PRS-M3E). The assigned tracking number was OOP000000178. On April 2, 2025, AVSS voluntarily requested that the FAA rescind the DOC for the DJI Mavic 3 Multispectral (M3M) with AVSS Parachute Recovery System (PRS-M3E). AVSS indicated that they are no longer supporting this unmanned aircraft configuration and the AVSS Parachute Recovery System is not compatible with the DJI Mavic 3 Multispectral unmanned aircraft series.

Basis for Recission: AVSS voluntarily requested the recission of the DOC for the DJI Mavic 3 Multispectral (M3M) with AVSS Parachute Recovery System (PRS-M3E) because it is no longer supporting the system. This will not affect any production units because the AVSS Parachute Recovery System is not compatible with the DJI Mavic 3 Multispectral unmanned aircraft series. Based on this information, the FAA determined that a recission is warranted.

Recission: For the reasons stated herein, the FAA rescinds the DOC tracking number OOP000000178 for the DJI Mavic 3 Multispectral (M3M) with AVSS Parachute Recovery System (PRS-M3E) unmanned aircraft.

Issued in Washington, DC, on September 16, 2025.
Marcus Cunningham,
Manager, Emerging Technologies Division, AFS-700.

[FR Doc. 2025-18100 Filed 9-17-25; 8:45 am]

BILLING CODE 4910-13-P